DEPARTMENT OF THE INTERIOR

Fish and Wildlife Service

Final Recirculated Environmental Impact Report/Supplemental Environmental Impact Statement for the Coachella Valley Multiple Species Habitat Conservation Plan and Natural Community Conservation Plan, Riverside County, CA

AGENCY: Fish and Wildlife Service, Interior.

ACTION: Notice of availability; final recirculated environmental impact report/supplemental environmental impact statement and multiple species habitat conservation plan.

SUMMARY: Pursuant to the National Environmental Policy Act, this notice announces the availability of the Final Recirculated Coachella Valley Multiple Species Habitat Conservation Plan/Natural Community Conservation Plan (MSHCP), Final Recirculated Environmental Impact Report/Supplemental Environmental Impact Statement (Final EIR/EIS), and Implementing Agreement. The Coachella Valley Association of Governments, Coachella Valley Conservation Commission, County of Riverside, Riverside County Flood Control and Water Conservation District, Riverside County Parks and Open Space District, Riverside County Waste Management District, Coachella Valley Water District, Imperial Irrigation District, California Department of Transportation, California Department of Parks and Recreation, Coachella Valley Mountains Conservancy, and the cities of Cathedral City, Coachella, Indian Wells, Indio, La Quinta, Palm Desert, Palm Springs, and Rancho Mirage (Applicants) applied to the U.S. Fish and Wildlife Service (Service) for an incidental take permit pursuant to section 10(a)(1)(B) of the Endangered Species Act of 1973, as amended (Act). The permit is needed to authorize incidental take of listed animal species due to development and certain other activities in the approximately 1.1 million acre Plan Area in the Coachella Valley of Riverside County, California. The Service is publishing this notice to inform the public of the proposed action and to make available for review the Final EIR/EIS, which includes responses to public comments received on the March 2007, Recirculated Draft EIR/Supplemental Final EIS.

The MSHCP also incorporates a Public Use and Trails Plan, which includes proposals that address non-motorized recreation activities on Federal and non-Federal lands in the Santa Rosa and San Jacinto Mountains. The Bureau of Land Management (BLM) is a Cooperating Agency in this planning process and will use this Final EIR/EIS to make decisions on BLM-administered public lands pertaining to trail use in the Santa Rosa and San Jacinto Mountains. The proposals constitute activity (implementation) level actions in furtherance of the California Desert Conservation Area Plan (1980), as amended, and the Santa Rosa and San Jacinto Mountains National Monument Management Plan (2004). The BLM will issue a separate Record of Decision regarding non-motorized recreation activities on public lands.

DATES: A Record of Decision will be signed no sooner than 30 days after the publication date of the EPA notice. Comments on the Final EIR/EIS must be received on or before December 13, 2007.

ADDRESSES: Comments should be sent to Mr. Jim Bartel, Field Supervisor, U.S. Fish and Wildlife Service, Carlsbad Fish and Wildlife Office, 6010 Hidden Valley Road, Carlsbad, California 92011. You may also submit comments by facsimile to 760-431-9624.

FOR FURTHER INFORMATION CONTACT: Ms. Therese O'Rourke, Assistant Field Supervisor, at the Carlsbad Fish and Wildlife Office above; telephone 760-431-9440.

SUPPLEMENTARY INFORMATION:

Availability of Documents

Copies of the Final Recirculated MSHCP, Implementation Agreement, and Final EIR/EIS are available for public review, by appointment, during regular business hours, at the Carlsbad Fish and Wildlife Office or at the Coachella Valley Association of Governments (see ADDRESSES). Copies are also available for viewing on the World Wide Web at http://www.cvmshcp.org and at the following locations:

(1) Riverside County Planning Department: 4080 Lemon Street, 9th Floor, Riverside, California 92502.

(2) Riverside County Planning: 82675 Hwy 111, Room 209, Indio, California 92201.

(3) U.S. Bureau of Land Management: 690 Garnet Avenue, North Palm Springs, California 92258.

(4) City of Palm Springs: 3200 E. Tahquitz Canyon Way, Palm Springs, California 92262.

(5) City of Cathedral City: 68-700 Avenida Lalo Guerrero, Cathedral City, California 92234.

(6) City of La Quinta: 78-495 Calle Tampico, La Quinta, California 92253.

(7) City of Rancho Mirage: 69825 Highway 111, Rancho Mirage, California 92270.

(8) City of Palm Desert: 73-510 Fred Waring Drive, Palm Desert, California 92260.

(9) City of Indio: 100 Civic Center Mall, Indio, California 92201.

(10) City of Indian Wells: 44950 El Dorado Drive, Indian Wells, California 92210.

(11) City of Coachella: 1515 Sixth Street, Coachella, California 92236.

(12) Cathedral City Public Library: 33520 Date Palm Drive, Cathedral City, California 92234.

(13) Coachella Branch Library: 1538 7th Street, Coachella Valley, California 92260.

(14) Indio Public Library: 200 Civic Center Mall, Indio, California 92201.

(15) Lake Tamarisk Branch Library: Lake Tamarisk Drive, Desert Center, California 92239.

(16) La Quinta Public Library: 78080 Calle Estado, La Quinta, California 92253.

(17) Mecca-North Shore Branch Library: 65250 Cahuilla, Mecca, California 92254.

(18) Palm Springs City Library: 300 South Sunrise Way, Palm Springs, California 92262.

(19) Rancho Mirage Public Library: 42-520 Bob Hope Drive, Rancho Mirage, California 92270.

(20) Riverside County Library: Palm Desert Branch, 73-300 Fred Waring Drive Palm Desert, California 92260.

(21) Thousand Palms Library: 72-715 La Canada Way, Thousand Palms, California 92276.

(22) Coachella Valley Association of Governments: 73-710 Fred Waring Drive, Suite 200, Palm Desert, California 92260.

Background Information

A permit is needed because section 9 of the Act and Federal regulations prohibit the “take” of animal species listed as endangered or threatened. Take of listed animal species is defined under the Act to include kill, harm, or harass. Harm includes significant habitat modification or degradation that actually kills or injures listed animals by significantly impairing essential behavioral patterns, including breeding, feeding, and sheltering [50 CFR 17.3(c)]. Under limited circumstances, the Service may issue permits to authorize incidental take; i.e., take that is incidental to, and not the purpose of, otherwise lawful activity. Although take of plant species is not prohibited under the Act, and therefore cannot be authorized under an incidental take permit, plant species are proposed to be included on the permit in recognition of the conservation benefits provided to them under the MSHCP. Assurances provided under the No Surprises Rule at 50 CFR 17.3, 17.22(b)(5), and 17.32(b)(5) would extend to all species named on the permit. Regulations governing incidental take permits for threatened and endangered species are found in 50 CFR 17.32 and 17.22, respectively.

The EIR/EIS analyzes the impacts of the proposed implementation of the MSHCP by the Applicants. The Applicants seek an incidental take permit and assurances to incidentally take 22 animal species and assurances for 5 plants. Collectively, the 27 listed and unlisted species are referred to as “Covered Species” by the MSHCP and include 5 plant species (2 endangered, 3 unlisted); 2 insect species (both unlisted); 1 fish species (endangered); 1 amphibian species (endangered); 3 reptile species (2 threatened, 1 unlisted); 11 bird species (3 endangered, 8 unlisted); and 4 mammal species (1 endangered and 3 unlisted).

The federally listed species include the Coachella Valley milk-vetch (Astragalus lentiginosus var. coachellae), triple-ribbed milk-vetch (Astragalus tricarinatus), desert pupfish (Cyprinodon macularius), arroyo toad (Bufo californicus), desert tortoise (Gopherus agassizii), Coachella Valley fringe-toed lizard (Uma inornata), Yuma clapper rail (Rallus longirostris yumanensis), southwestern willow flycatcher (Empidonax traillii extimus), least Bell's vireo (Vireo bellii pusillus), and Peninsular bighorn sheep (Ovis canadensis cremnobates). The Coachella Valley round-tailed ground squirrel (Spermophilus tereticaudus chlorus) is a Federal Candidate. The unlisted species include the Mecca aster (Xylorhiza cognate), Orocopia sage (Salvia greatae), Little San Bernardino Mountains linanthus (Linanthus maculates) or (Gilia maculata), Coachella Valley giant sand-treader cricket (Macrobaenetes valgum), Coachella Valley Jerusalem cricket (Stenopelmatus cahuilaensis), flat-tailed horned lizard (Phrynosoma mcalli), burrowing owl (Athene cunicularia), crissal thrasher (Toxostoma crissale), Le Conte's thrasher (Toxostoma lecontei), gray vireo (Vireo vicinior), yellow warbler (Dendroica petechia brewsteri), yellow-breasted chat (Icteria virens), summer tanager (Piranga rubra), California black rail (Laterallus jamaicensis), southern yellow bat (Lasiurus ega xanthinus), and Palm Springs pocket mouse (Perognathus longimembris bangsi).

The Coachella Valley Association of Government's Executive Committee approved the Final Recirculated MSHCP on September 10, 2007. The MSHCP is intended to protect and sustain viable populations of native plant and animal species and their habitats in perpetuity through the creation of a reserve system, while accommodating continued economic development and quality of life for residents of the Coachella Valley. The MSHCP plan area includes the following eight incorporated cities: Cathedral City, Coachella, Indian Wells, Indio, La Quinta, Palm Desert, Palm Springs, and Rancho Mirage. It is one of two large, multiple-jurisdictional habitat-planning efforts in Riverside County, each of which constitutes a “subregional” plan under the State of California's NCCP Act, as amended.

The MSHCP identifies the proposed reserve system, which would be established from lands within 21 conservation areas that are either adjacent or linked by biological corridors. When completed, the reserve system would include core habitat for Covered Species, essential ecological processes, and biological corridors and linkages to provide for the conservation of the proposed Covered Species.

The MSHCP includes measures to avoid and minimize incidental take of the proposed Covered Species, emphasizing project design modifications to protect both habitats and species' individuals. A monitoring and reporting plan would measure the MSHCP's success based on achieving biological goals and objectives; thus, ensuring conservation keeps pace with development. The MSHCP also includes a management program, with adaptive management, which allows for changes in the conservation program if the biological species objectives are not met, or new information becomes available to improve the efficacy of the MSHCP's conservation strategy.

Covered Activities, as described in the MSHCP, would include public and private development within the plan area that require discretionary actions by an Applicant, making them subject to consistency with MSHCP, regional transportation facilities, maintenance of and safety improvements on existing roads, the Circulation Elements of the Applicants, maintenance and construction of flood control facilities, and compatible uses in the reserve. The MSHCP makes provision for the inclusion of special districts and other non-Applicant entities in the permit with a certificate of inclusion.

Public Review

The Service and the cooperating agency issued a notice of intent to prepare an EIR/EIS for the proposed MSHCP, on June 28, 2000 (65 FR 39920); a notice of availability of the Draft Environmental Impact Report/Environmental Impact Statement for the proposed MSHCP on November 5, 2004 (69 FR 64581); a notice of availability of the Final Environmental Impact Report/Environmental Impact Statement for the proposed MSHCP on April 21, 2006 (71 FR 20719); and a notice of availability of the Recirculated Draft EIR/Supplemental Final EIS for the proposed MSHCP on March 30, 2007 (72 FR 15148) for a 60-day public comment period.

The Recirculated Draft EIR/Supplemental Final EIS analyzed the potential environmental impacts that may result from the Federal action of authorizing incidental take anticipated to occur with implementation of the MSHCP, and identified various alternatives. We received 67 comment letters on the Recirculated Draft EIR/Supplemental Final EIS. A response to each comment received in these letters has been included in Volume 5 of the Final EIR/EIS. The analysis provided in the Final EIR/EIS is intended to accomplish the following: inform the public of the Service's proposed action and alternatives; address public comments received on the Recirculated Draft EIR/Supplemental Final EIS; disclose the direct, indirect, and cumulative environmental effects of our proposed action and alternatives; and indicate any irreversible commitment of resources that would result from implementation of the proposed action and alternatives. This notice is provided pursuant to section 10(a) of the Act and Service regulations for implementing National Environmental Policy Act (40 CFR 1506.6).

Before including your address, phone number, e-mail address, or other personal identifying information in your comment, you should be aware that your entire comment—including your personal identifying information—may be made publicly available at any time. While you may ask us in your comment to withhold your personal identifying information from public review, we cannot guarantee that we will be able to do so.

We will evaluate the permit application, associated documents, and public comments to determine whether the application meets the requirements of section 10(a) of the Act. The Service will then prepare a Record of Decision. A permit decision will be made no sooner than 30 days after the publication of this notice and completion of the Record of Decision.

Dated: October 26, 2007.
Ken McDermond,
Deputy Manager, California/Nevada Operations Office, Sacramento, California.

[FR Doc. E7-22087 Filed 11-9-07; 8:45 am]

BILLING CODE 4310-55-P